DEPARTMENT OF ENERGY

Federal Energy Regulatory Commission

Combined Notice of Filings #1

Take notice that the Commission received the following exempt wholesale generator filings:

Docket Numbers: EG21-179-000.

Applicants: Clover Creek Solar, LLC.

Description: Notice of Self-Certification of EWG Status of Clover Creek Solar, LLC.

Filed Date: 6/23/21.

Accession Number: 20210623-5106.

Comments Due: 5 p.m. ET 7/14/21.

Docket Numbers: EG21-180-000.

Applicants: Antelope Expansion 1B, LLC.

Description: Notice of Self-Certification of Exempt Wholesale Generator Status of Antelope Expansion 1B, LLC.

Filed Date: 6/23/21.

Accession Number: 20210623-5116.

Comments Due: 5 p.m. ET 7/14/21.

Take notice that the Commission received the following electric rate filings:

Docket Numbers: ER10-1818-027; ER10-1819-031; ER10-1820-034.

Applicants: Public Service Company of Colorado; Northern States Power Company, a Minnesota corporation; Northern States Power Company, a Wisconsin corporation.

Description: Notice of Change in Status of Public Service Company of Colorado, et al.

Filed Date: 6/23/21.

Accession Number: 20210623-5096.

Comments Due: 5 p.m. ET 7/14/21.

Docket Numbers: ER13-1430-012; ER13-1561-011; ER15-1218-010; ER16-38-008; ER16-39-007; ER16-2501-004; ER16-2502-004; ER17-2341-004; ER17-2453-004; ER18-713-003; ER18-1076-003; ER18-1077-003; ER20-2888-002; ER21-965-001; ER21-1259-001.

Applicants: Arlington Valley Solar Energy II, LLC, Centinela Solar Energy, LLC, Solar Star California XIII, LLC, Kingbird Solar A, LLC, Kingbird Solar B, LLC, Nicolis, LLC, Tropico, LLC, CA Flats Solar 130, LLC, Imperial Valley Solar 3, LLC, CA Flats Solar 150, LLC, GASNA 6P, LLC, GASNA 36P, LLC, Townsite Solar, LLC, Ventura Energy Storage, LLC, Coso Battery Storage, LLC.

Description: Notice of Non-Material Change in Status of Arlington Valley Solar Energy II, LLC, et al.

Filed Date: 6/22/21.

Accession Number: 20210622-5176.

Comments Due: 5 p.m. ET 7/13/21.

Docket Numbers: ER14-1818-021; ER21-1372-001; ER21-1374-001.

Applicants: Boston Energy Trading and Marketing LLC, Diamond Retail Energy, LLC, Diamond Energy East, LLC.

Description: Triennial Market Power Analysis for Central Region of Boston Energy Trading and Marketing LLC, et al.

Filed Date: 6/21/21.

Accession Number: 20210621-5182.

Comments Due: 5 p.m. ET 8/20/21.

Docket Numbers: ER21-21-002.

Applicants: Harts Mill Solar, LLC.

Description: Compliance filing: Informational Filing Pursuant to Section 2 of the PJM Tariff to be effective N/A.

Filed Date: 6/23/21.

Accession Number: 20210623-5092.

Comments Due: 5 p.m. ET 7/14/21.

Docket Numbers: ER21-2183-000.

Applicants: Southwest Power Pool, Inc.

Description: § 205(d) Rate Filing: 3825 Prairie Hills Wind GIA to be effective 6/14/2021.

Filed Date: 6/23/21.

Accession Number: 20210623-5017.

Comments Due: 5 p.m. ET 7/14/21.

Docket Numbers: ER21-2185-000.

Applicants: PJM Interconnection, L.L.C.

Description: § 205(d) Rate Filing: Original IISA, Service Agreement No. 6095; Queue No. AE2-224 to be effective 5/28/2021.

Filed Date: 6/23/21.

Accession Number: 20210623-5056.

Comments Due: 5 p.m. ET 7/14/21.

Docket Numbers: ER21-2186-000.

Applicants: Duke Energy Florida, LLC.

Description: § 205(d) Rate Filing: DEF-Gulf Power Conurrence to Facility Construction Agreement for Affected Sys to be effective 6/17/2021.

Filed Date: 6/23/21.

Accession Number: 20210623-5067.

Comments Due: 5 p.m. ET 7/14/21.

Docket Numbers: ER21-2187-000.

Applicants: PJM Interconnection, L.L.C.

Description: § 205(d) Rate Filing: Amendment to ISA/CSA, Service Agreement Nos. 5364 and 5365; Queue No. AB2-160 to be effective 4/16/2019.

Filed Date: 6/23/21.

Accession Number: 20210623-5077.

Comments Due: 5 p.m. ET 7/14/21.

Docket Numbers: ER21-2188-000.

Applicants: Stoneray Power Partners, LLC.

Description: Market-Based Triennial Review Filing: Triennial Market Power Update—Stoneray Power Partners to be effective 7/1/2021.

Filed Date: 6/23/21.

Accession Number: 20210623-5098.

Comments Due: 5 p.m. ET 8/23/21.

Docket Numbers: ER21-2189-000.

Applicants: PJM Interconnection, L.L.C.

Description: § 205(d) Rate Filing: Amendment to ISA/CSA, Service Agreement Nos. 5800 and 5834; Queue No. AC1-143 to be effective 9/17/2020.

Filed Date: 6/23/21.

Accession Number: 20210623-5100.

Comments Due: 5 p.m. ET 7/14/21.

Docket Numbers: ER21-2190-000.

Applicants: Glaciers Edge Wind Project, LLC.

Description: Market-Based Triennial Review Filing: Triennial Market Power Update—Glaciers Edge Wind to be effective 7/1/2021.

Filed Date: 6/23/21.

Accession Number: 20210623-5101.

Comments Due: 5 p.m. ET 8/23/21.

Docket Numbers: ER21-2191-000.

Applicants: Public Service Company of Colorado.

Description: § 205(d) Rate Filing: 2021-06-23 PSCo-WAPA NITS-325-0.3.0-Agrmt to be effective 6/24/2021.

Filed Date: 6/23/21.

Accession Number: 20210623-5124.

Comments Due: 5 p.m. ET 7/14/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Debbie-Anne A. Reese,
Deputy Secretary.

[FR Doc. 2021-13928 Filed 6-29-21; 8:45 am]

BILLING CODE 6717-01-P